DEPARTMENT OF TRANSPORTATION

Federal Aviation Administration

Notice of Opportunity for Public Comment on Surplus Property Release at Portsmouth International Airport at Pease, Portsmouth, NH

AGENCY: Federal Aviation Administration (FAA), DOT.

ACTION: Request for Public Comments.

SUMMARY: Under the provisions of Title 49, U.S.C. Section 47153(d), notice is being given that the FAA is considering a request from Portsmouth International Airport at Pease to waive the surplus property requirements for 65.42 acres of airport property located at Portsmouth International Airport at Pease.

DATES: Comments must be received on or before June 4, 2012.

ADDRESSES: Send comments on this document to Mr. Barry J. Hammer at the Federal Aviation Administration, 12 New England Executive Park, Burlington, Massachusetts 01803, Telephone 781-238-7625.

FOR FURTHER INFORMATION CONTACT: Documents are available for review by appointment by bcintacting Ms. Lynn Marie Hinchee, Telephone 603-766-9286 or by contacting Mr. Barry J. Hammer, Federal Aviation Administration, 16 New England Executive Park, Burlington, Massachusetts, Telephone 781-238-7625.

SUPPLEMENTARY INFORMATION: The Federal Aviation Administration is reviewing a request by Portsmouth International Airport at Pease to release 65.42 acres of airport property from surplus property obligations.

The State of New Hampshire is making improvements to approximately 3.5 miles of the Spaulding Turnpike extending from just north of Exit 1 in Newington to just south of the Dover Toll Plaza at Exit 6. The improvements to the roadway will include a new interchange directly into Pease International Tradeport for both north and south-bound traffic, and to service Portsmouth International Airport at Pease.

In addition to the acquisition in fee for a 37.37 acre parcel, further land will be impacted by construction as itemized below:

(a) Permanent access easement—20,187 square feet

(b) Permanent conservation easement— 23.22 acres

(c) Permanent utility easement—8,734 square feet

(d) Temporary construction easement—8.47 acres

In addition to receiving fair market value of $550,000 for interests in the aforementioned property, additional considerations of improvement to approximately 1,800 feet of Arboretum Drive will be made resulting in improved access to approximately 20 acres of airport industrial zoned land for development and revenue generating purposes.

Dated: Issued in Burlington, Massachusetts on April 19, 2012.
Bryon H. Rakoff,
Acting Manager, Airports Division, New England Region.

[FR Doc. 2012-10726 Filed 5-3-12; 8:45 am]

BILLING CODE M